SMALL BUSINESS ADMINISTRATION

Public Federal Regulatory Enforcement Fairness Hearing; Region II Regulatory Fairness Board

The Small Business Administration Region II Regulatory Fairness Board and the SBA Office of the National Ombudsman will hold a Public Hearing on Monday, May 20, 2002 at 8 a.m. at the Brooklyn Borough Hall, Community Room, 1st Floor, 209 Joralemon Street, Brooklyn, New York 11201, to receive comments and testimony from small business owners, small government entities, and small non-profit organizations concerning the regulatory enforcement and compliance actions taken by federal agencies.

Anyone wishing to attend or to make a presentation must contact Norman Hunte in writing or by fax, in order to be put on the agenda. Norman Hunte, U.S. Small Business Administration, New York District Office, 26 Federal Plaza, Room 3100, New York, New York 10278, phone (212) 264-9487, fax (212) 264-4963, e-mail: norman.hunte@sba.gov.

For more information, see our Web site at www.sba.gov/ombudsman.

Dated: April 24, 2002.
Michael L. Barrera,
National Ombudsman.

[FR Doc. 02-10978 Filed 5-2-02; 8:45 am]

BILLING CODE 8025-01-P